DEPARTMENT OF THE INTERIOR

National Park Service

[NPS-WASO-NAGPRA-10998; 2200-1100-665]

Notice of Intent To Repatriate Cultural Items: Arizona State Museum, University of Arizona, Tucson, AZ

AGENCY: National Park Service, Interior.

ACTION: Notice.

SUMMARY: The Arizona State Museum, University of Arizona, in consultation with the appropriate Indian tribes, has determined that the cultural items meet the definition of unassociated funerary objects and repatriation to the Indian tribes stated below may occur if no additional claimants come forward. Representatives of any Indian tribe that believes itself to be culturally affiliated with the cultural items may contact the Arizona State Museum, University of Arizona.

DATES: Representatives of any Indian tribe that believes it has a cultural affiliation with the cultural items should contact the Arizona State Museum, University of Arizona, at the address below by September 27, 2012.

ADDRESSES: John McClelland, NAGPRA Coordinator, Arizona State Museum, University of Arizona, P.O. Box 210026, Tucson, AZ 85721, telephone (520) 626-2950.

SUPPLEMENTARY INFORMATION: Notice is here given in accordance with the Native American Graves Protection and Repatriation Act (NAGPRA), 25 U.S.C. 3005, of the intent to repatriate cultural items in the possession of the Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

The unassociated funerary objects are six ceramic bowls, four ceramic jars, two ceramic pitchers, and three ceramic sherds. The funerary objects were removed from the Burruel site, AZ AA:16:58 (ASM), which is located on private land adjacent to the San Xavier Indian Reservation, Pima County, AZ. The Burruel site was inadvertently discovered in 1979 by the property owner and excavation of human remains and funerary objects was conducted by staff from the Arizona State Museum. The human remains and funerary objects were brought to the Arizona State Museum for documentation. The funerary objects were returned to the property owner later that same year. In 1980, the property owner transferred control of the human remains to the Arizona State Museum. The human remains were reported in a Notice of Inventory Completion in the Federal Register (73 FR 8356-8357, February 13, 2008) and were subsequently repatriated. At an unknown date, the funerary objects were acquired by Dr. Peter Toma. In May 2012, Dr. Toma donated all of the funerary objects to the Arizona State Museum. The Burruel site includes at least two trash mounds and a cremation area. Ceramics associate the site with the Tanque Verde phase of the Classic period of the Hohokam Archeological tradition, dating to approximately AD 1150 to 1450.

Father Eusebio Kino visited the O'odham village of Bac in 1692 and established Mission San Xavier. He reported the presence of 800 inhabitants at the time of his first visit. O'odham people have continued to occupy the land in the vicinity of the mission throughout the historic period. They also identify themselves with the Hohokam Archeological tradition. Cultural continuity between the prehistoric occupants of the region and present day O'odham and Puebloan peoples is supported by continuities in settlement pattern, architectural technologies, basketry, textiles, ceramic technology, ritual practices, and oral traditions. The descendants of the O'odham peoples of the areas described above are members of the Ak Chin Indian Community of the Maricopa (Ak Chin) Indian Reservation, Arizona; Gila River Indian Community of the Gila River Indian Reservation, Arizona; Salt River Pima-Maricopa Indian Community of the Salt River Reservation, Arizona; and Tohono O'odham Nation of Arizona. The descendants of the Puebloan peoples of the areas described above are members of the Hopi Tribe of Arizona and the Zuni Tribe of the Zuni Reservation, New Mexico.

Determinations Made by the Arizona State Museum, University of Arizona

Officials of the Arizona State Museum, University of Arizona have determined that

• Pursuant to 25 U.S.C. 3001(3)(B), the 15 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Ak Chin Indian Community of the Maricopa (Ak Chin) Indian Reservation, Arizona; Gila River Indian Community of the Gila River Indian Reservation, Arizona; Hopi Tribe of Arizona; Salt River Pima-Maricopa Indian Community of the Salt River Reservation, Arizona; Tohono O'odham Nation of Arizona; and the Zuni Tribe of the Zuni Reservation, New Mexico (hereafter referred to as “The Tribes”).

Additional Requestors and Disposition

Representatives of any other Indian tribe that believes itself to be culturally affiliated with the unassociated funerary objects should contact John McClelland, NAGPRA Coordinator, Arizona State Museum, University of Arizona, P.O. Box 210026, Tucson, AZ 85721, telephone (520) 626-2950, before September 27, 2012. Repatriation of the unassociated funerary objects to The Tribes may proceed after that date if no additional claimants come forward.

The Arizona State Museum is responsible for notifying The Tribes that this notice has been published.

Dated: August 1, 2012.
Melanie O'Brien,
Acting Manager, National NAGPRA Program.

[FR Doc. 2012-20949 Filed 8-27-12; 8:45 am]

BILLING CODE 4312-50-P